DEPARTMENT OF TRANSPORTATION

Federal Aviation Administration

14 CFR Part 97

[Docket No. 30462; Amdt. No. 3138]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective November 1, 2005. The compliance date for each SIAP and/or Weather Takeoff Minimums is specified in the amendatory provisions.

The incorporation by reference of certain publications listed in the regulations is approved by the Director of the Federal Register as of November 1, 2005.

ADDRESSES: Availability of matters incorporated by reference in the amendment is as follows:

For Examination

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase

Individual SIAP and Weather Takeoff Minimums copies may be obtained from:

1. FAA Public Inquiry Center (APA-200), FAA Headquarters Building, 800 Independence Avenue, SW., Washington, DC 20591; or

2. The FAA Regional Office of the region in which the affected airport is located.

By Subscription

Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore (1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (Air).

Issued in Washington, DC on October 21, 2005.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective December 22, 2005

Atmore, AL, Atmore Muni, RNAV (GPS) RWY 18, Orig

Atmore, AL, Atmore Muni, RNAV (GPS) RWY 36, Orig

Atmore, AL, Atmore Muni, Takeoff Minimums & Textual DP, Orig

St. Paul Island, AK, St. Paul Island, RNAV (GPS) RWY 36, Orig

St. Paul Island, AK, St. Paul Island, GPS RWY 36, Orig, CANCELLED

St. Paul Island, AK, St. Paul Island, ILS OR LOC/DME RWY 36, Amdt 2

St. Paul Island, AK, St. Paul Island, LOC/DME BC RWY 18, Amdt 3

St. Paul Island, AK, St. Paul Island, NDB-A, Amdt 1

St. Paul Island, AK, St. Paul Island, Takeoff Minimums & Textual DP, Amdt 2

Yakutat, AK, Yakutat, RNAV (GPS) RWY 11, Amdt 1

Yakutat, AK, Yakutat, RNAV (GPS) RWY 29, Amdt 1

Yakutat, AK, Yakutat, VOR/DME RWY 2, Amdt 3

Yakutat, AK, Yakutat, VOR/DME RWY 29, Amdt 2

Yakutat, AK, Yakutat, LOC/DME BC RWY 29, Amdt 4

Springdale, AR, Springdale Muni, RNAV (GPS) RWY 18, Amdt 1A

Oakdale, CA, Oakdale, VOR-A, Orig

Oakdale, CA, Oakdale, RNAV (GPS) RWY 10, Orig

Oakdale, CA, Oakdale, RNAV (GPS) RWY 28, Orig

Oakdale, CA, Oakdale, GPS RWY 10, Orig, CANCELLED

Oakdale, CA, Oakdale, Takeoff Minimums and Textual DP, Orig

Jacksonville, FL, Cecil Field, RADAR-1, Orig, CANCELLED

Jacksonville, FL, Jacksonville Intl, RNAV (GPS) RWY 31, Amdt 1

Boise, ID, Boise Air Terminal/Gowen Fld, RNAV (GPS) RWY 28R, Amdt 1

Sheldon, IA, Sheldon Muni, RNAV (GPS) RWY 15, Orig

Sheldon, IA, Sheldon Muni, RNAV (GPS) RWY 33, Orig

Sheldon, IA, Sheldon Muni, NDB RWY 33, Amdt 7

Sheldon, IA, Sheldon Muni, VOR OR GPS RWY 33, Amdt 1A, CANCELLED

Parsons, KS, Tri-City, NDB RWY 17, Amdt 9A

London, KY, London-Corbin Arpt-Magee Fld, ILS RWY 6, Orig

London, KY, London-Corbin Arpt-Magee Fld, Takeoff Minimums and Textual DP, Amdt 3

Paducah, KY, West Kentucky Airpark, GPS RWY 4, Orig, CANCELLED

Paducah, KY, West Kentucky Airpark, GPS RWY 22, Orig, CANCELLED

Grand Isle, LA, Grand Isle, VOR OR GPS-A, Amdt 8, CANCELLED

Grand Isle, LA, Grand Isle, VOR/DME OR GPS-C, Amdt 7, CANCELLED

Frankfort, MI, Frankfort Dow Memorial Field, VOR/DME-A, Orig

Frankfort, MI, Frankfort Dow Memorial Field, VOR OR GPS-A, Amdt 3, CANCELLED

Freemont, MI, Fremont Muni, RNAV (GPS) RWY 18, Orig

Fremont, MI, Fremont Muni, RNAV (GPS) RWY 36, Orig

Fremont, MI, Fremont Muni, VOR RWY 18, Orig

Fremont, MI, Fremont Muni, VOR RWY 36, Amdt 7

Fremont, MI, Fremont Muni, GPS RWY 18, Orig, CANCELLED

Kennett, MO, Kennett Memorial, RNAV (GPS) RWY 2, Orig

Kennett, MO, Kennett Memorial, RNAV (GPS) RWY 20, Orig

Kennett, MO, Kennett Memorial, NDB RWY 2, Orig

Kennett, MO, Kennett Memorial, NDB RWY 20, Orig

Kennett, MO, Kennett Memorial, VOR/DME RWY 20, Orig

Kennett, MO, Kennett Memorial, NDB OR GPS RWY 18, Amdt 3, CANCELLED

Kennett, MO, Kennett Memorial, Takeoff Minimums and Textual DP, Amdt 1

Albuquerque, NM, Albuquerque Intl Sunport, ILS OR LOC RWY 3, Amdt 2

Eugene, OR, Mahlon Sweet Field, ILS OR LOC Y RWY 16R, Orig

Eugene, OR, Mahlon Sweet Field, ILS OR LOC/DME Z RWY 16R, Amdt 35, ILS RWY 16R (CAT II), ILS RWY 16R (CAT III), Amdt 35

Portland, OR, Portland-Hillsboro, VOR/DME-C, Orig

Portland, OR, Portland-Hillsboro, NDB-B, Amdt 2

Portland, OR, Portland-Hillsboro, VOR/DME OR GPS-A, Orig-B, CANCELLED

Portland, OR, Portland-Hillsboro, Takeoff Minimums and Textual DP, Amdt 5

The Dalles, OR, Columbia Gorge Regional/The Dalles Muni, RNAV (GPS)-A, Orig

The Dalles, OR, Columbia Gorge Regional/The Dalles Muni, VOR/DME OR GPS-A, Amdt 4, CANCELLED

Barnwell, SC, Barnwell County, RNAV (GPS) RWY 17, Amdt 1

Barnwell, SC, Barnwell County, NDB RWY 17, Orig

Barnwell, SC, Barnwell County, NDB-A, Amdt 1, CANCELLED

Barnwell, SC, Barnwell County, NDB RWY 4, Amdt 2A, CANCELLED

Delta, UT, Delta Muni, RNAV (GPS) RWY 17, Orig

Delta, UT, Delta Muni, RNAV (GPS) RWY 35, Orig

Delta, UT, Delta Muni, VOR/DME RWY 17, Amdt 2

Delta, UT, Delta Muni, VOR RWY 35, Amdt 3

Delta, UT, Delta Muni, Takeoff Minimums and Textual DP, Orig

Bremerton, WA, Bremerton National, ILS OR LOC RWY 19, Amdt 14

Pinedale, WY, Ralph Wenz Field, Takeoff Minimums and Textual DP, Amdt 1

Pinedale, WY, Ralph Wenz Field, RNAV (GPS) RWY 11, Orig

Pinedale, WY, Ralph Wenz Field, RNAV (GPS) RWY 29, Orig

Pinedale, WY, Ralph Wenz Field, NDB RWY 29, Amdt 1

* * * Effective February 16, 2006

Harrisburg, PA, Harrisburg International, COPTER ILS 128, Orig, CANCELLED

Harrisburg, PA, Harrisburg International, COPTER ILS 308, Orig, CANCELLED

[FR Doc. 05-21582 Filed 10-31-05; 8:45 am]

BILLING CODE 4910-13-P